FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011741-004.

Title: U.S. Pacific Coast—Oceania Agreement.

Parties: Hamburg-Sud, P&O Nedlloyd Limited, P&O Nedlloyd B.V., Australia-New Zealand Direct Line, Fesco Ocean Management Limited, Maersk Sealand.

Synopsis: The amendment (1) Adds Maersk Sealand as a party, (2) modifies vessel and allocation provisions to reflect the above, (3) extends the term of the agreement, (4) deletes some cost savings sharing provisions, (5) revises treatment of excess space (6) revises treatment of excess space (7) revises arbitration and governing law provision and (8) restates the agreement.

Agreement No.: 011834.

Title: Maersk Sealand/Hapag Lloyd Mediterranean U.S. East Coast Slot Charter Agreement.

Parties: A.P. Moller-Maersk Sealand, Hapag-Lloyd Container Linie GmbH.

Synopsis: The agreement authorizes A.P. Moller-Maersk Sealand to charter space to Hapag-Lloyd Container Linie GmbH in the trade between the U.S. Atlantic Coast and ports in the Spain in the Algeciras-Cadiz range. The parties request expedited review.

By Order of the Federal Maritime Commission.
Dated: December 23, 2002.
Bryant L. VanBrakle,
Secretary.

[FR Doc. 02-32762 Filed 12-26-02; 8:45 am]

BILLING CODE 6730-01-P